DEPARTMENT OF THE INTERIOR

Bureau of Indian Affairs

Indian Gaming

AGENCY: Bureau of Indian Affairs, Interior.

ACTION: Notice of Class III Gaming Compacts taking effect.

SUMMARY: Notice is given that the Supplement to the Tribal-State Compact between the Chickasaw Nation and the State of Oklahoma is considered to have been approved and is in effect.

EFFECTIVE DATE: July 28, 2005.

FOR FURTHER INFORMATION CONTACT: George T. Skibine, Director, Office of Indian Gaming Management, Office of the Deputy Assistant Secretary—Policy and Economic Development, Washington, DC 20240, (202) 219-4066.

SUPPLEMENTARY INFORMATION: Under Section 11(d)(7)(D) of the Indian Gaming Regulatory Act of 1988 (IGRA), Public Law 100-497, 25 U.S.C. 2710, the Secretary of the Interior must publish in the Federal Register notice of any Tribal-State compact that is approved, or considered to have been approved for the purpose of engaging in Class III gaming activities on Indian lands. The Acting Principal Deputy Assistant Secretary—Indian Affairs, Department of the Interior, through his delegated authority did not approve or disapprove this compact before the date that is 45 days after the date this compact was submitted. It could not be determined within the 45 day time frame to approve or disapprove this compact, whether the games listed, in the supplement to the compact, were class II or class III. Therefore, pursuant to 25 U.S.C. 2710(d)(7)(C), this supplement to the compact is considered to have been approved, but only to the extent that it is consistent with IGRA.

Dated: July 19, 2005.
Michael D. Olsen,
Acting Principal Deputy Assistant Secretary—Indian Affairs.

[FR Doc. 05-14966 Filed 7-27-05; 8:45 am]

BILLING CODE 4310-4N-P